DEPARTMENT OF JUSTICE

Notice of Lodging of Proposed Consent Decree Under the Compresensive Environmental Response, Compensation, and Liability Act

On July 9, 2018, a proposed Consent Decree in Emhart Industries, et al. v. United States et al., Civil Action No. 11-023, was filed with the United States District Court for Rhode Island.

The proposed Consent Decree has been signed by the United States of America, the State of Rhode Island, Emhart Industries, Inc., and Black & Decker Inc. It will resolve the claims between the parties relating to the cleanup of the Centredale Manor Superfund Site in North Providence, Rhode Island under the Comprehensive Environmental Response, Compensation, and Liability Act, 42 U.S.C. 9601 et seq. The proposed Consent Decree requires Emhart and Black & Decker to undertake work to clean up the Centredale Site and to pay the United States' and Rhode Islands' costs. It also commits the United States to pay a portion of the cleanup costs on behalf of the Department of Defense.

The publication of this notice opens a period for public comment on the proposed Consent Decree. Comments should be addressed to the Assistant Attorney General, Environment and Natural Resources Division, and should refer to: Emhart Industries et al. v. United States et al., Civil Action No. 11-023, D.J. Ref. 90-11-3-07101/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $183.75 (25 cents per page reproduction cost) payable to the United States Treasury. For a copy of the consent decree without appendices, send a check for $12.00.

Robert Maher,
Assistant Section Chief, Environmental Enforcement Section, Environment and Natural Resources Division.

[FR Doc. 2018-14973 Filed 7-12-18; 8:45 am]

BILLING CODE 4410-15-P